DEPARTMENT OF HEALTH AND HUMAN SERVICES

Agency for Toxic Substances and Disease Registry

Community/Tribal Subcommittee to the Board of Scientific Counselors, Agency for Toxic Substances and Disease Registry: Meeting

In accordance with section 10(a)(2) of the Federal Advisory Committee Act (Pub. L. 92-463), the Agency for Toxic Substances and Disease Registry (ATSDR) announces the following subcommittee meeting.

Name: Community/Tribal Subcommittee (CTS).

Times and Dates: 9 a.m.-4:30 p.m., July 26, 2000; 9 a.m.-3 p.m., July 27, 2000.

Place: Tulane University, School of Public Health, CAEPH, Suite 800, 1440 Canal Street, New Orleans, Louisiana 70112

Status: Open to the public, limited by the space available. The meeting room accommodates approximately 35 people.

Purpose: This subcommittee brings to the Board of Scientific Counselors advice and citizen input, as well as recommendations on community and tribal programs, practices, and policies of the Agency. The subcommittee reports directly to the Board of Scientific Counselors.

Matters To Be Discussed: Issues and concerns of the Community/Tribal Subcommittee as related to ATSDR's community and tribal programs. ATSDR will provide an update on the Environmental Health Research Agenda, initiate a discussion on how recently finalized Public Health Assessments (PHAs) have addressed community concerns (more extensive discussion of this topic will occur at a future meeting); the process for conducting an evaluation of PHAs; and, the CTS will give an update on cultural sensitivity training.

Contact Person for More Information: Sandra Coulberson, Principal ATSDR Contact, ATSDR, M/S E-56, 1600 Clifton Road, NE, Atlanta, GA 30333, telephone 404/639-6002.

The Director, Management Analysis and Services office has been delegated the authority to sign Federal Register notices pertaining to announcements of meetings and other committee management activities, for both the Centers for Disease Control and Prevention and the Agency for Toxic Substances and Disease Registry.

Dated: July 3, 2000.
Carolyn J. Russell,
Director, Management Analysis and Services Office, Centers for Disease Control and Prevention.

[FR Doc. 00-17292 Filed 7-7-00; 8:45 am]

BILLING CODE 4163-70-P